DEPARTMENT OF ENERGY

Federal Energy Regulatory Commission

Combined Notice of Filings #1

December 8, 2006.

Take notice that the Commission received the following electric corporate filings:

Docket Numbers: EC07-32-000.

Applicants: ESI Cherokee MGP, Inc.; ESI Cherokee County, L.P., Caithness Cherokee GP, LLC; Caithness Cherokee, LLC.

Description: ESI Cherokee MGP, Inc. et al. submit a joint application for authorization to acquire interests in an electric utility company.

Filed Date: 12/04/2006.

Accession Number: 20061206-0090.

Comment Date: 5 p.m. Eastern Time on Tuesday, December 26, 2006.

Take notice that the Commission received the following electric rate filings:

Docket Numbers: ER04-1232-005.

Applicants: Southwest Power Pool, Inc.

Description: Southwest Power Pool, Inc. submits a clean and relined version of Substitute Seventh Revised Sheet 161 to its OATT pursuant to FERC's 9/1/06 Order.

Filed Date: 12/04/2006.

Accession Number: 20061206-0254.

Comment Date: 5 p.m. Eastern Time on Tuesday, December 26, 2006.

Docket Numbers: ER05-6-088; EL04-135-091; EL02-111-108; EL03-212-104.

Applicants: Exelon Corporation.

Description: Exelon Corp. submits a compliance electric refund report pursuant to the Commission's 10/27/06 order.

Filed Date: 12/01/2006.

Accession Number: 20061201-5014.

Comment Date: 5 p.m. Eastern Time on Friday, December 22, 2006.

Docket Numbers: ER06-133-001.

Applicants: PJM Interconnection, LLC.

Description: PJM Interconnection, LLC submits an executed Interconnection Service Agreement, Substitute Original Service Agreement No. 1387, with the City of Geneva and Commonwealth Edison Company.

Filed Date: 12/04/2006.

Accession Number: 20061206-0084.

Comment Date: 5 p.m. Eastern Time on Tuesday, December 26, 2006.

Docket Numbers: ER06-451-013; ER06-1467-001.

Applicants: Southwest Power Pool, Inc.

Description: Southwest Power Pool, Inc. submits a compliance filing pursuant to FERC's 10/31/06 Order re revisions of various aspects of its real-time energy imbalance market.

Filed Date: 11/30/2006.

Accession Number: 20061206-0085.

Comment Date: 5 p.m. Eastern Time on Thursday, December 21, 2006.

Docket Numbers: ER07-14-001.

Applicants: Southwest Power Pool, Inc.

Description: Southwest Power Pool, Inc. submits a withdrawal of the notice of cancellation for Network Operating Agreements.

Filed Date: 11/22/2006.

Accession Number: 20061127-0212.

Comment Date: 5 p.m. Eastern Time on Wednesday, December 13, 2006.

Docket Numbers: ER07-284-000.

Applicants: San Diego Gas & Electric Company.

Description: San Diego Gas & Electric Co. submits the Transmission Owner 3 Formula and rate changes to the California ISO wholesale and retail electric transmission rates.

Filed Date: 12/01/2006.

Accession Number: 20061206-0163.

Comment Date: 5 p.m. Eastern Time on Friday, December 22, 2006.

Docket Numbers: ER07-286-000.

Applicants: Arizona Public Service Company.

Description: Arizona Public Service Co. submits an executed interconnection agreement with Abitibi Consolidated Sales Corp. and Snowflake White Mountain Power, LLC.

Filed Date: 12/01/2006.

Accession Number: 20061205-0001.

Comment Date: 5 p.m. Eastern Time on Friday, December 22, 2006.

Docket Numbers: ER07-288-000.

Applicants: Leaning Juniper Wind Power, LLC.

Description: Leaning Juniper Wind Power, LLC submits a Notice of Cancellation of its FERC Electric Tariff, Original Volume 1.

Filed Date: 12/04/2006.

Accession Number: 20061206-0088.

Comment Date: 5 p.m. Eastern Time on Tuesday, December 26, 2006.

Docket Numbers: ER07-289-000.

Applicants: Cleco Power LLC.

Description: Cleco Power LLC submits an executed Network Integration Transmission Services Agreement with Entergy Louisiana LLC and a Notice of Cancellation for its Rate Schedule No 3.

Filed Date: 12/04/2006.

Accession Number: 20061206-0087.

Comment Date: 5 p.m. Eastern Time on Tuesday, December 26, 2006.

Docket Numbers: ER07-290-000; ER07-291-000.

Applicants: Cabrillo Power I LLC; Cabrillo Power II LLC.

Description: Cabrillo Power I LLC et al submit revisions to their Reliability Must Run Agreements, First Revised Rate Schedules FERC No. 2, with the California Independent System Operator Corp. for the calendar year 2007.

Filed Date: 12/01/2006.

Accession Number: 20061206-0135.

Comment Date: 5 p.m. Eastern Time on Friday, December 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-21344 Filed 12-14-06; 8:45 am]

BILLING CODE 6717-01-P